ENVIRONMENTAL PROTECTION AGENCY

40 CFR Part 52

[LA40-1-7338b; FRL-6988-5]

Approval and Promulgation of Implementation Plan Louisiana; Nonattainment Major Stationary Source Revision

AGENCY: Environmental Protection Agency (EPA).

ACTION: Proposed rule.

SUMMARY: In this action, EPA is proposing to approve a revision to the Louisiana State Implementation Plan (SIP), relating to “Nonattainment New Source Review Procedures.” This revision was submitted on July 25, 1997, by the Governor of Louisiana to EPA for approval. This revision removes a provision from the State's regulations, Title 33 of the Louisiana Administrative Code, chapter 5, section 504, that treated nitrogen oxides ( NOX) as precursors to ozone in ozone nonattainment areas. This makes the State regulation consistent with earlier actions by EPA that exempted NOX as an ozone precursor in the Baton Rouge and Lake Charles nonattainment areas. In addition, this regulation also contains several administrative revisions that are non-substantive in nature and do not alter the meaning of the rule (such as corrections of capitalization errors).

In the “Rules and Regulations” section of this Federal Register, EPA is approving the State's SIP revision as a direct final rule without prior proposal because EPA views this as a noncontroversial amendment and anticipates no adverse comment. The EPA has explained reasons for this approval in the preamble to the direct final rule. If EPA receives no relevant adverse comment, EPA will take no further action on this proposed rule. If EPA receives relevant adverse comment, EPA will withdraw the direct final rule and it will not take effect. In that event, EPA will address all relevant public comments in a subsequent final rule based on this proposed rule. In either event, EPA will not institute a second comment period on this action. Any parties interested in commenting must do so at this time.

DATES: Written comments must be received by July 2, 2001.

ADDRESSES: Written comments should be addressed to Ms. Jole C. Luehrs, Chief, Air Permits Section (6PD-R), Attention: Ms. Wendy Jacques, at the EPA Region 6 office listed below. Copies of documents relevant to this action are available for public inspection during normal business hours at the following locations:

Environmental Protection Agency, Region 6, Air Permits Section (6PD-R), 1445 Ross Avenue, Dallas, Texas 75202-2733.

Louisiana Department of Environmental Quality, H. B. Garlock Building, 7290 Bluebonnet Boulevard, Baton Rouge, Louisiana 70810.

Anyone wanting to examine these documents should make an appointment with the appropriate office at least two working days in advance.

FOR FURTHER INFORMATION CONTACT: Ms. Wendy Jacques, Air Permits Section (6PD-R), Environmental Protection Agency, Region 6, 1445 Ross Avenue, Dallas, Texas 75202-2733, telephone (214) 665-7395.

SUPPLEMENTARY INFORMATION: For additional information, see the Direct Final Rule which is published in the Rules and Regulations section of this Federal Register.

Authority: 42 U.S.C. 7401-7671q.

Dated: May 16, 2001.
Jerry Clifford,
Acting Regional Administrator, EPA Region 6.

[FR Doc. 01-13505 Filed 5-30-01; 8:45 am]

BILLING CODE 6560-50-P